DEPARTMENT OF LABOR

Employment and Training Administration

[TA-W-38,928]

Motorola, Inc. Personal Communications Sector, Harvard, IL; Amended Certification Regarding Eligibility To Apply for Worker Adjustment Assistance

In accordance with section 223 of the Trade Act of 1974 (19 U.S.C. 2273) the Department of Labor issued a Notice of Certification Regarding Eligibility to Apply for Worker Adjustment Assistance on April 13, 2001, applicable to workers of Motorola, Inc., Personal Communications Sector, Harvard, Illinois. The notice was published in the Federal Register on May 2, 2001 (66 FR 22006).

At the request of the company, the Department reviewed the certification for workers of the subject firm. The workers are engaged in the production of cellular phones.

New company information shows that worker separations will continue to occur at the Harvard, Illinois location of the subject firm after the current certification expires April 13, 2003. The workers will remain at the Harvard, Illinois location until August 15, 2003 to decommission equipment and to physically close the property.

Accordingly, the Department is amending the certification to extent the expiration date to August 15, 2003.

The intent of the Department's certification is to include all workers of Motorola, Inc., Personal Communication Sector, Harvard, Illinois who were adversely affected by increased imports.

The amended notice applicable to TA-W-38,928 is hereby issued as follows:

All workers of Motorola, Inc., Personnel Communications Sector, Harvard, Illinois who became totally or partially separated from employment on or after February 14, 2000, through August 15, 2003, are eligible to apply for adjustment assistance under Section 223 of the Trade Act of 1974.

Signed at Washington, DC this 17th day of March 2003.
Linda G. Poole,
Certifying Officer, Division of Trade Adjustment Assistance.

[FR Doc. 03-8844 Filed 4-9-03; 8:45 am]

BILLING CODE 4510-30-P